DEPARTMENT OF ENERGY

Federal Energy Regulatory Commission

Combined Notice of Filings #1

Take notice that the Commission received the following exempt wholesale generator filings:

Docket Numbers: EG12-36-000.

Applicants: Solano 3 Wind LLC.

Description: Notice of Self-Certification of Exempt Wholesale Generator Status of Solano 3 Wind LLC.

Filed Date: 3/5/12.

Accession Number: 20120305-5035.

Comments Due: 5 p.m. ET 3/26/12.

Take notice that the Commission received the following electric rate filings:

Docket Numbers: ER10-2331-001; ER10-2343-001; ER10-2320-001; ER10-2322-002; ER10-2326-001; ER10-2327-002; ER10-2330-001.

Applicants: J.P. Morgan Ventures Energy Corporation, J.P. Morgan Commodities Canada Corporation, BE Allegheny LLC, BE Ironwood LLC, Cedar Brakes I, L.L.C., Cedar Brakes II, L.L.C., Utility Contract Funding, L.L.C.

Description: JPMorgan Sellers Supplement to Updated Market Power Analysis for the Northeast Region.

Filed Date: 3/5/12.

Accession Number: 20120305-5218.

Comments Due: 5 p.m. ET 3/26/12.

Docket Numbers: ER10-3082-002.

Applicants: Motiva Enterprises LLC.

Description: Notice of Change in Status of Motiva Enterprises LLC.

Filed Date: 3/5/12.

Accession Number: 20120305-5190.

Comments Due: 5 p.m. ET 3/26/12.

Docket Numbers: ER12-615-000.

Applicants: Southwestern Public Service Company.

Description: 2012-3-5_SPS-RBEC-GSEC-Refund Report_651 to be effective N/A.

Filed Date: 3/5/12.

Accession Number: 20120305-5078.

Comments Due: 5 p.m. ET 3/26/12.

Docket Numbers: ER12-1198-000.

Applicants: Solano 3 Wind LLC.

Description: Application of Solano 3 Wind LLC for Order Accepting Market-Based Rate Tariff to be effective 3/5/2012.

Filed Date: 3/5/12.

Accession Number: 20120305-5000.

Comments Due: 5 p.m. ET 3/26/12.

Docket Numbers: ER12-1199-000.

Applicants: Midwest Independent Transmission System Operator, Inc., Michigan Electric Transmission Company, LLC.

Description: METC-Beebe (2410) Cancellation to be effective 12/22/2011.

Filed Date: 3/5/12.

Accession Number: 20120305-5044.

Comments Due: 5 p.m. ET 3/26/12.

Docket Numbers: ER12-1200-000.

Applicants: PJM Interconnection, L.L.C.

Description: Queue Position V4-048/V4-049; Original Service Agreement No. 3241 to be effective 2/2/2012.

Filed Date: 3/5/12.

Accession Number: 20120305-5076.

Comments Due: 5 p.m. ET 3/26/12.

Docket Numbers: ER12-1201-000.

Applicants: PJM Interconnection, L.L.C.

Description: Original Service Agreement No. 3234; Queue No. W4-060 to be effective 2/2/2012.

Filed Date: 3/5/12.

Accession Number: 20120305-5079.

Comments Due: 5 p.m. ET 3/26/12.

Docket Numbers: ER12-1202-000.

Applicants: Liberty Hill Power LLC.

Description: Liberty Hill Power LLC, FERC Electric Tariff to be effective 4/29/2012.

Filed Date: 3/5/12.

Accession Number: 20120305-5142.

Comments Due: 5 p.m. ET 3/26/12.

Docket Numbers: ER12-1203-000.

Applicants: PJM Interconnection, L.L.C.

Description: Queue Position W1-062; Original Service Agreement No. 3244 to be effective 2/3/2012.

Filed Date: 3/5/12.

Accession Number: 20120305-5177.

Comments Due: 5 p.m. ET 3/26/12.

Docket Numbers: ER12-1204-000.

Applicants: PJM Interconnection, L.L.C.

Description: Compliance Filing per Order 755—RM11-7 re Frequency Regulation Compensation to be effective 10/1/2012.

Filed Date: 3/5/12.

Accession Number: 20120305-5185.

Comments Due: 5 p.m. ET 3/26/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 06, 2012.
Nathaniel J. Davis, Sr.,
Deputy Secretary.

[FR Doc. 2012-5904 Filed 3-9-12; 8:45 am]

BILLING CODE 6717-01-P